DEPARTMENT OF AGRICULTURE

Commodity Credit Corporation

Amendment 2 of the Cotton Storage Agreement

AGENCY: Commodity Credit Corporation, USDA.

ACTION: Notice.

SUMMARY: This notice announces Amendment 2 to the Commodity Credit Corporation's (CCC's) Cotton Storage Agreement. This amendment alters the agreement that regulates the storage of CCC interest and commercial cotton in warehouses throughout the United States.

DATES: Effective Date: December 19, 2006.

FOR FURTHER INFORMATION CONTACT: Timothy R. Murray, Cotton Program Manager, Warehouse and Inventory Division, Farm Service Agency, USDA, STOP 0553, 1400 Independence Avenue, SW., Washington, DC 20250-0553. Telephone: (202) 720-6125. E-mail: tim.murray@usda.gov. Persons with disabilities who require alternative means for communication (Braille, large print, audiotape, etc.) should contact the USDA Target Center at (202) 720-2600 (voice and TDD).

SUPPLEMENTARY INFORMATION: The final rule published in the Federal Register on August 30, 2006 (71 FR 51422) amended the regulations at 7 CFR 1423.11 regarding delivery and shipping standards for CCC-approved cotton warehouses. Amendment 2 to the CCC Cotton Storage Agreement updates Part III, S., Delivery and Shipping Standard, to reflect the changes in 7 CFR 1423.11. The new Section S redefines the minimum weekly delivery and shipping standard to 4.5 percent of the CSA-approved storage capacity or the maximum number of bales on hand at any time during the crop year. A new mandatory reporting requirement is also included. This provision applies to all cotton shipped from the warehouse. Questions regarding Amendment 2, or any other aspects of the CCC Cotton Storage Agreement, should be addressed to Paul Rodriguez at the Kansas City Commodity Office (816) 929-6662 or e-mail Paul.Rodriguez@kcc.usda.gov. Amendment 2 can be found at http://www.fsa.usda.gov/daco/cotton.htm.

Signed at Washington, DC, December 6, 2006.
Teresa C. Lasseter,
Executive Vice President, Commodity Credit Corporation.

[FR Doc. E6-21571 Filed 12-18-06; 8:45 am]

BILLING CODE 3410-05-P